DEPARTMENT OF JUSTICE

Notice of Lodging of Consent Decree Under the Comprehensive Environmental Response, Compensation, and Liability Act

Under 42 U.S.C. 9622(d)(2) and 28 CFR 50.7, notice is hereby given that on April 16, 2004, a proposed Consent Decree in United States v. Macalloy Corp. and the BOC Group, Inc., Civil Action Number 2:04-1201-18, was lodged with the United States District Court for the District of South Carolina.

The consent decree resolves claims against two defendants brought by the United States on behalf of the Environmental Protection Agency (“EPA”) under sections 106 and 107 of the Comprehensive Environmental Response, Compensation, and Liability Act (“CERCLA”), 42 U.S.C. 9606 and 9607, for response costs incurred and to be incurred by EPA in responding to the release and threatened release of hazardous substances at the Macalloy Superfund Site in Charleston, South Carolina. Under the Consent Decree, the Defendants will pay $357,663 for past costs, pay all of EPA's future costs relating to the Site, and perform the remedy for the Site as set forth in the completed Remedial Design for the Site. The United States covenants not to sue the two Defendants regarding the past costs, the work, and future costs.

The Department of Justice will receive, for a period of thirty (30) days from the date of this publication, comments relating to the Consent Decree. Comments should be addressed to the Assistant Attorney General, Environment and Natural Resources Division, P.O. Box 7611, U.S. Department of Justice, Washington, DC 20044-7611, and should refer to United States v. Macalloy Corp. and the BOC Group, Inc. DOJ Ref. # 90-11-2-07214.

The Consent Decree may be examined at the Office of the United States Attorney, District of South Carolina, 170 Meeting Street, 3rd Floor, Charleston, South Carolina 29401, and the Region 4 Office of the Environmental Protection Agency, 61 Forsyth Street, SW., Atlanta, Georgia 30303. During the public comment period, the Consent Decree may also be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $19.00 (25 cents per page reproduction cost) payable to the U.S. Treasury, to obtain a copy of the Consent Decree.

Ellen Mahan,
Assistant Section Chief, Environmental Enforcement Section, Environment and Natural Resources Division.

[FR Doc. 04-9670 Filed 4-28-04; 8:45 am]

BILLING CODE 4410-15-M